DEPARTMENT OF ENERGY

Federal Energy Regulatory Commission

Sunshine Act Meetings

The following notice of meeting is published pursuant to section 3(a) of the government in the Sunshine Act (Pub. L. No. 94-409), 5 U.S.C. 552b:

Agency Holding Meeting: Federal Energy Regulatory Commission.

TIME AND DATE: October 17, 2024, 10:00 a.m.

PLACE: Room 2C, 888 First Street NE, Washington, DC 20426.

STATUS: Open to the public.

MATTERS TO BE CONSIDERED: Agenda.

Note —Items listed on the agenda may be deleted without further notice.

CONTACT PERSON FOR MOR INFORMATION: Debbie-Anne A. Reese, Secretary, Telephone (202) 502-8400.

For a recorded message listing items stricken from or added to the meeting, call (202) 502-8627.

This is a list of matters to be considered by the Commission. It does not include a listing of all documents relevant to the items on the agenda. All public documents, however, may be viewed online at the Commission's website at https://elibrary.ferc.gov/eLibrary/search using the eLibrary link.

1118th—MEETING
[Open meeting; October 17, 2024; 10:00 a.m.]
Item No. | Docket No. | Company
ADMINISTRATIVE
A-1 | AD25-1-000 | Agency Administrative Matters.
A-2 | AD25-2-000 | Customer Matters, Reliability, Security and Market Operations.
ELECTRIC
E-1 | RM22-7-001 | Applications for Permits to Site Interstate Electric Transmission Facilities.
E-2 | RM22-2-000 | Compensation for Reactive Power Within the Standard Power Factor Range.
E-3 | ER20-2186-003, EL20-62-001 | Fern Solar LLC.
E-4 | EL14-12-016, EL15-45-015 | Association of Businesses Advocating Tariff Equity, et al. v. Midcontinent Independent System Operator, Inc. et al. Arkansas Electric Cooperative Corporation, et al. v. ALLETE, Inc., et al.
E-5 | ER24-2033-000 | GridLiance High Plains LLC.
E-6 | ER24-1906-000 | Cheyenne Light, Fuel and Power Company.
E-7 | ER24-2039-000 | Deseret Generation & Transmission Co-operative, Inc.
E-8 | ER24-2037-000 | Tucson Electric Power Company.
E-9 | ER24-2034-000 | GridLiance Heartland LLC.
E-10 | EC24-79-000 | Chalk Point Power, LLC, Dickerson Power, LLC, and Lanyard Power Marketing, LLC.
E-11 | ER13-75-013, ER15-416-003 | Public Service Company of Colorado.
| ER13-77-012, ER15-433-003 | Tucson Electric Power Company.
| ER13-78-013, ER15-434-003 | UNS Electric Inc.
| ER13-79-011, ER15-413-003 | Public Service Company of New Mexico.
| ER13-82-011, ER15-411-008 | Arizona Public Service Company.
| -91-010, ER15-426-003 | El Paso Electric Company.
| ER13-96-011, ER15-431-003 | Black Hills Power, Inc.
| ER13-97-011, ER15-430-003 | Black Hills Colorado Electric Utility Company, LP.
| ER13-105-007 | NV Energy, Inc.
| ER15-423-003, ER15-428-005 | Nevada Power Company.
| ER15-424-003 | Sierra Pacific Power Company.
| ER13-120-011, ER15-432-003 | Cheyenne Light, Fuel & Power Company.
| EL25-4-000 | Basin Electric Power Cooperative, Inc.
| EL25-2-000 | Tri-State Generation and Transmission Association, Inc.
| EL25-3-000 | Deseret Generation & Transmission Co-operative, Inc.
E-12 | EL24-64-001 | Lackawanna Energy Center LLC v. PJM Interconnection, L.L.C.
E-13 | ER24-99-003 | PJM Interconnection, L.L.C.
E-14 | ER24-1221-001 | Southwest Power Pool, Inc.
E-15 | RR24-5-000 | North American Electric Reliability Corporation.
GAS
G-1 | RM25-2-000 | Supplemental Review of the Oil Pipeline Index Level.
HYDRO
H-1 | P-14513-003 | Idaho Irrigation District and New Sweden Irrigation District.
H-2 | P-606-027 | Pacific Gas and Electric Company.
CERTIFICATES
C-1 | CP24-13-000 | MountainWest Overthrust Pipeline, LLC.
C-2 | CP23-543-000 | Bison Pipeline LLC.
| CP23-544-000 | Northern Border Pipeline Company.
| CP23-545-000 | Wyoming Interstate Company, L.L.C. and Fort Union Gas Gathering, L.L.C.
C-3 | CP24-1-000, CP13-27-000 | Cameron Interstate Pipeline, LLC.

A free webcast of this event is available through the Commission's website. Anyone with Internet access who desires to view this event can do so by navigating to www.ferc.gov's Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: October 10, 2024.
Debbie-Anne A. Reese,
Secretary.

[FR Doc. 2024-23947 Filed 10-11-24; 4:15 pm]

BILLING CODE 6717-01-P